ENVIRONMENTAL PROTECTION AGENCY

[FRL-7887-9]

Notice of Availability: Draft NPDES Permit for Concentrated Animal Feeding Operations for Puerto Rico

AGENCY: Environmental Protection Agency (EPA).

ACTION: Notice of availability of draft permit.

SUMMARY: Today's notice makes available for public comment the draft NPDES Permit for Concentrated Animal Feeding Operations for Puerto Rico for public review and comment. This draft permit is being published to meet one of EPA's key action items in the Concentrated Animal Feeding Operations Regulations—to issue NPDES permits to reduce risk to water quality and human health from animal feeding operations by December 2006. Please note that this Draft Permit for CAFOs in Puerto Rico has been sent to Public Notice in both an English and a Spanish Newspaper in Puerto Rico for a period of 60 days.

The Concentrated Animal Feeding Operation (CAFO) General Permit is a single permit which covers all CAFOs that apply for coverage in the Commonwealth of Puerto Rico. Consequently, those CAFOs which are covered by the General Permit will have identical permit language and requirements. Unique facility-specific requirements will be similarly referenced in the permit. The facility-specific requirements are found in the Puerto Rico Environmental Quality Board's regulations for Animal Feeding Operations and detailed in an Agricultural Waste Management Plan (AWMP). The AWMP is a requirement for all CAFOs. For Puerto Rico the AWMP is synonymous with a Residuals Management System.

Only Animal Feeding Operations (AFOs) which meet the definition of a CAFO are eligible to apply for coverage under the General Permit. AFOs which do not meet the definition are not eligible to be covered under the General Permit. To determine if your operation is a CAFO, see 40 CFR 122.23 (4) and (6) as well as Part VII of the Definitions section of the General Permit. In addition, facilities can be designated as CAFOs on a case by case basis.

EPA believes that comments from a wide range of interested stakeholders is important to produce a final permit that will help EPA achieve the goal of reducing risk to water quality and human health from animal feeding operations. EPA is interested in receiving comments from reviewers of the draft NPDES Permit for Concentrated Animal Feeding Operations for Puerto Rico, and will carefully consider this input as it prepares a final permit.

DATES: Written comments should be submitted by April 30, 2005, to the address below.

ADDRESSES: Address all comments to Karen O'Brien, U.S. EPA Region 2, 290 Broadway, 24th Floor, New York, New York 10007. Submit electronic comments to obrien.karen@epa.gov.

FOR FURTHER INFORMATION CONTACT: Karen O'Brien, (212) 637-3717 or Jeff Gratz, (212) 637-3873.

SUPPLEMENTARY INFORMATION: Copies of the draft NPDES Permit for Concentrated Animal Feeding Operations for Puerto Rico may be obtained on the Internet at: http://www.epa.gov/owm. If you do not have Internet access, you may obtain a paper copy of the draft guidance by calling the EPA Region 2 at (212) 637-3717. The draft permit is also available in electronic format.

Dated: March 10, 2005.
Kevin Bricke,
Deputy Director, Division of Environmental Planning and Protection, Region II.

[FR Doc. 05-6038 Filed 3-25-05; 8:45 am]

BILLING CODE 6560-50-P